SOCIAL SECURITY ADMINISTRATION

[Docket No. SSA-2019-0056]

Privacy Act of 1974; Matching Program

AGENCY: Social Security Administration (SSA).

ACTION: Notice of a new matching program.

SUMMARY: In accordance with the provisions of the Privacy Act, as amended, this notice announces a new matching program with the Office of Child Support Enforcement (OCSE). OCSE will provide SSA with quarterly wage and unemployment insurance information located in the National Directory of New Hires to allow SSA to determine eligibility of applicants for Extra Help (low-income subsidy assistance) under the Medicare Prescription Drug, Improvement, and Modernization Act of 2003. This agreement assists SSA in determining eligibility of applicants for Extra Help; redetermining eligibility of existing Extra Help beneficiaries during periodic screening, and administering the Extra Help program.

DATES: The deadline to submit comments on the proposed matching program is 30 days from the date of publication of this notice in the Federal Register. The matching program will be applicable on May 27, 2020, or once a minimum of 30 days after publication of this notice has elapsed, whichever is later. The matching program will be in effect for a period of 18 months.

ADDRESSES: Interested parties may comment on this notice by either telefaxing to (410) 966-0869, writing to Matthew Ramsey, Executive Director, Office of Privacy and Disclosure, Office of the General Counsel, Social Security Administration, G-401 WHR, 6401 Security Boulevard, Baltimore, MD 21235-6401, or emailing Matthew.Ramsey@ssa.gov. All comments received will be available for public inspection by contacting Mr. Ramsey at this street address.

FOR FURTHER INFORMATION CONTACT: Interested parties may submit general questions about the matching program to Andrea Huseth, Supervisory Team Lead, Office of Privacy and Disclosure, Office of the General Counsel, Social Security Administration, G-401 WHR, 6401 Security Boulevard, Baltimore, MD 21235-6401, at telephone: (410) 965-6868, or send an email to Andrea.Huseth@ssa.gov.

SUPPLEMENTARY INFORMATION: None.

Matthew Ramsey,
Executive Director, Office of Privacy and Disclosure, Office of the General Counsel.

Participating Agencies: SSA and OCSE.

Authority for Conducting the Matching Program: The legal authority for disclosures under this agreement are the Social Security Act (Act) and the Privacy Act of 1974, as amended. Subsection 453(j)(4) of the Act provides that OCSE shall provide the Commissioner of SSA with all information in the National Directory of New Hires (NDNH). 42 U.S.C. 653(j)(4). SSA has authority to use data to determine entitlement to and eligibility for programs it administers pursuant to sections 453(j)(4), 1631(e)(1)(B) and (f), and 1860D-14(a)(3) of the Act. 42 U.S.C. 653(j)(4), 1383(e)(1)(B) and (f), and 1395w-114(a)(3). Disclosures under this agreement shall be made in accordance with 5 U.S.C. 552a(b)(3), and in compliance with the matching procedures in 5 U.S.C. 552a(o), (p), and (r).

The Act provides that the determination of whether a Part D eligible individual residing in a state is a subsidy eligible individual shall be determined under the state plan for medical assistance or by the Commissioner of Social Security. 42 U.S.C. 1395w-114(a)(3)(B)(i).

SSA has independent authority to collect this information regarding Medicare Parts A-D eligibility and premium calculations via sections 202-205, 223, 226, 228, 1611, 1631, 1818, 1836, 1839, 1840, and 1860D-1 to 1860D-15 of the Act (42 U.S.C. 402-405, 423, 426, 428, 1382, 1383, 1395i-2, 1395o, 1395r, 1395s, and 1395w-101 to 1395w-115).

Purpose(s): This matching program establishes the conditions under which OCSE will provide SSA with quarterly wage and unemployment insurance information located in the NDNH to allow SSA to determine eligibility of applicants for Extra Help (low-income subsidy assistance) under the Medicare Prescription Drug, Improvement, and Modernization Act of 2003 (Pub. L. 108-173) (Extra Help). This agreement also governs the use, treatment, and safeguarding of the information exchanged. OCSE is the “source agency” and SSA is the “recipient agency,” as defined by the Privacy Act. 5 U.S.C. 552a(a)(9) and (11).

This agreement assists SSA in (1) determining eligibility of applicants for Extra Help; (2) redetermining eligibility of existing Extra Help beneficiaries during periodic screening, and (3) administering the Extra Help program.

The Privacy Act provides that no record contained in a system of record may be disclosed for use in a computer matching program, except pursuant to a written agreement containing specified provisions. 5 U.S.C. 552a(o). SSA and OCSE are executing this agreement to comply with the Privacy Act and the regulations and guidance promulgated thereunder.

Categories of Individuals: The individuals whose information is involved in this matching program are applicants for Extra Help (low-income subsidy assistance) under the Medicare Prescription Drug, Improvement, and Modernization Act of 2003 (Pub. L. 108-173) (Extra Help).

Categories of Records: SSA's Title XVIII Eligible (T18ELG) table within the Medicare Database File (MDB) contains approximately 90 million records.

The SSA finder file will contain approximately 10,000 records from the MDB each day. Once a month, SSA has an increased volume of approximately 200,000 in one of the daily exchanges. Once a year, the volume will increase by approximately 1.9 million records in the finder file to support the Extra Help process.

The NDNH contains approximately 1.5 billion new hire, quarterly wage, and unemployment insurance records, which represents the most recent 24 months of information. In accordance with section 453(j)(4) of the Act, NDNH information provided to SSA by OCSE will contain all the available data elements from the quarterly wage and unemployment insurance files, if any, pertaining to the individuals whose records are contained in the SSA finder file. 42 U.S.C. 653(j)(4).

Specified Data Elements Used in the Match:

1. SSA will provide OCSE the following data elements electronically in the Finder File:

• COSSN (SSN)

• Name

2. OCSE will provide electronically to SSA the following data elements from the NDNH quarterly wage file:

• Quarterly wage record identifier

• For employees:

(1) Name (first, middle, last)

(2) SSN

(3) Verification request code

(4) Processed date

(5) Non-verifiable indicator

(6) Wage amount

(7) Reporting period

• For employers of individuals in the quarterly wage file of the NDNH:

(1) Name

(2) Employer identification number

(3) Address(es)

• Transmitter Agency Code

• Transmitter State Code

• State or Agency Name

3. OCSE will provide electronically to SSA the following data elements from the NDNH unemployment insurance file:

• Unemployment insurance record identifier

• Processed date

• SSN

• Verification request code

• Name (first, middle, last)

• Address

• Unemployment insurance benefit amount

• Reporting period

• Transmitter Agency Code

• Transmitter State Code

• State or Agency Name

4. Data Elements SSA updates in the OCSEFITM table, if there is a match:

• Quarterly Wage record identifier

• For employees:

(1) Employee's SSN

(2) Employee's wage amount

(3) Reporting period

• For employers of individuals:

(1) Employer identification number

(2) Employer's name

• Unemployment Insurance identifier:

(1) Claimant SSN

(2) Unemployment insurance benefit amount

(3) Reporting period

(4) Transmitter State Name

System(s) of Records: SSA collects and maintains this information in the Medicare Database (MDB) File system of records, No. 60-0321, published at 69 FR 77816 (December 28, 2004), amended at 71 FR 42159-42164 (July 25, 2006), at 72 FR 69723 (December 10, 2007), and at 83 FR 54969 (November 1, 2018). The MDB contains information related to Medicare Part A, Part B, Medicare Advantage Part C, and Medicare Part D.

OCSE will match SSA information in the MDB against the quarterly wage and unemployment insurance information furnished by state and federal agencies maintained in its system of records “OCSE National Directory of New Hires” (NDNH), No. 09-80-0381 was published in the Federal Register on April 2, 2015 at 80 FR 17906 and amended at 83 FR 6591 (February 14, 2018). The disclosure of NDNH information by OCSE to SSA constitutes a “routine use,” as defined by the Privacy Act. 5 U.S.C. 552a(b)(3). Routine use (9) of the SOR authorizes disclosure of NDNH information to SSA, 80 FR 17906, 17907 (April 2, 2015).

[FR Doc. 2020-07347 Filed 4-7-20; 8:45 am]

BILLING CODE 4191-02-P